DEPARTMENT OF COMMERCE

National Oceanic and Atmospheric Administration

RIN 0648-XF257

Endangered and Threatened Species; Take of Anadromous Fish

AGENCY: National Marine Fisheries Service (NMFS), National Oceanic and Atmospheric Administration (NOAA), Commerce.

ACTION: Notice of availability for final Environmental Assessment and Finding of No Significant Impact.

SUMMARY: Notice is hereby given that the Final Environmental Assessment (EA) and Finding of No Significant Impact (FONSI) associated with the California Department of Fish and Wildlife (CDFW)'s Mad River Hatchery Genetics Management Plan (HGMP) for winter-run steelhead hatchery production is now available to the public. The HGMP and associated Biological Opinion are also available to the public.

Project location: Lower Mad River watershed, north coast, California.

ADDRESSES: You may access a copy of the HGMP, Final EA, FONSI, 4(d) Rule decision memo, and other documents by one of the following:

• Visit the NMFS Web site, http://www.westcoast.fisheries.noaa.gov/hatcheries/hgmp/mad_river_w-steelhead_plan.html.

• Call (707) 834-7897 and request to have a CD or hard copy mailed to you.

• Obtain a CD or hard copy by visiting the NOAA Fisheries West Coast Region California Coastal Office, 1655 Heindon Road, Arcata, CA 95521.

FOR FURTHER INFORMATION CONTACT: Wes Smith, Telephone: (707) 834-7897, Fax: 707-825-4840 or email: wes.smith@noaa.gov.

SUPPLEMENTARY INFORMATION: NOAA's NMFS is the lead agency responsible for administering the Endangered Species Act (ESA) as it relates to listed salmon, steelhead, and marine species. Section 9 of the ESA prohibits take of endangered species. Section 4(d) of the ESA also gives NMFS the authority to promulgate a regulation that applies the take prohibitions of section 9 to threatened species. In 2000, NMFS issued a “4(d) rule” (65 FR 42422; 50 CFR 223.203; updated June 28, 2005, 70 FR 37160) which broadly prohibits take of threatened steelhead and salmon species. The 4(d) rule also lists certain “limits” to the take prohibitions. Limit 5 of the 4(d) rule for threatened steelhead and salmon provides that the take prohibition does not apply to activities associated with artificial propagation programs that follow a HGMP that meets certain criteria and has been approved by NMFS. (50 CFR 223.203(b)(5)). The final decision on the HGMP is pursuant to ESA section 4 and documented in a separate decision memo. The memo is also available to the public.

CDFW's HGMP for Mad River winter-run steelhead provides the framework through which CDFW can manage hatchery operations, monitoring, and evaluation activities, while meeting requirements specified under the ESA. The hatchery program will propagate steelhead derived from the local steelhead population in the Mad River, ensuring that at least half of the Mad River Hatchery winter-run steelhead spawning pairs are hatchery spawned natural-origin and match natural-origin steelhead with their natural counterparts whenever possible. Measures will be applied in the hatchery program to reduce the risk of incidental adverse genetic, ecological, and demographic effects on natural-origin steelhead and salmon populations. CDFW runs the hatchery to create a recreational steelhead fishery in the lower Mad River watershed, north coast California. CDFW submitted the Mad River winter-run steelhead HGMP to NMFS to determine as to whether the HGMP meets the criteria of Limit 5 of the 4(d) Rule.

NMFS published notification of the HGMP and draft EA's availability for public review and comment on March 28, 2016 for 30 days (81 FR 17143) and, upon request, provided a 15-day extension notice for public review and comment on May 4, 2016 (81 FR 26775). NMFS received four comment letters. All comments were directed toward the HGMP and were addressed by CDFW. CDFW's responses and associated changes to the HGMP were reviewed by NMFS. Several minor changes were made to the final EA to ensure a thorough review and to maintain consistency.

Species Covered in This Notice

Southern Oregon/Northern California Coast (SONCC) coho salmon ESU

(Oncorhynchus kisutch)

Threatened (70 FR 37160; June 28, 2005)

Designated critical habitat (64 FR 24049; May 5, 1999)

California Coastal (CC) Chinook Salmon ESU

(O. tsawytscha)

Threatened (70 FR 37160; June 28, 2005)

Designated critical habitat (70 FR 52488; September 2, 2005)

Northern California (NC) steelhead DPS

(O. mykiss)

Threatened (71 FR 834; January 5, 2006)

Designated critical habitat (70 FR 52488; September 2, 2005)

Authority: Under section 4 of the ESA, the Secretary of Commerce is required to adopt such regulations as he deems necessary and advisable for the conservation of species listed as threatened. The ESA salmon and steelhead 4(d) rule (65 FR 42422; July 10, 2000, as updated in 70 FR 37160; June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422; July 10, 2000, as updated in 70 FR 37160; June 28, 2005).

Dated: March 9, 2017.
Angela Somma,
Chief, Endangered Species Division, Office of Protected Resources, National Marine Fisheries Service.

[FR Doc. 2017-05074 Filed 3-14-17; 8:45 am]

BILLING CODE 3510-22-P